SECURITIES AND EXCHANGE COMMISSION

Proposed Collection; Comment Request

Upon Written Request, Copies Available From: Securities and Exchange Commission, Office of Filings and Information Services, Washington, DC 20549.

Approval of Existing Information Collection:

Rule 27e-1 and Form N-27E-1—SEC File No. 270-486—OMB Control No. 3235—new

Rule 27f-1 and Form N-27F-1—SEC File No. 270-487—OMB Control No. 3235—new

Notice is hereby given that, pursuant to the Paperwork Reduction Act of 1995 (44 U.S.C. 3501 et seq.), the Securities and Exchange Commission (the “Commission” ) is soliciting comments on the collections of information under the Investment Company Act of 1940 (“Act” ) summarized below. The Commission plans to submit these collections of information to the Office of Management and Budget for approval.

Rule 27e-1 [17 CFR 270.27e-1] is entitled “Requirements for Notice to be Mailed to Certain Purchasers of Periodic Payment Plan Certificates Sold Subject to Section 27(d) of the Act.” Form N-27E-1 is entitled “Notice to Periodic Payment Plan Certificate Holders of 18 Month Surrender Rights with Respect to Periodic Payment Plan Certificates.” Rule 27f-1 [17 CFR 270.27f-1] is entitled “Notice of Right of Withdrawal Required to Be Mailed to Periodic Payment Plan Certificate Holders and Exemption from Section 27(f) for Certain Periodic Payment Plan Certificates.” Form N-27F-1 is entitled “Notice to Periodic Payment Plan Certificate Holders of 45 Day Withdrawal Right with Respect to Periodic Payment Plan Certificates.” Form N-27E-1, which is prescribed by rule 27e-1 in order to implement the statutory mandate in section 27(e) of the Act, serves to notify holders of periodic payment plan certificates who have missed certain payments of their surrender rights with respect to the certificates. Form N-27F-1, which is prescribed by Rule 27f-1, is used to notify recent purchasers of periodic payment plan certificates, of their right under section 27(f) of the Act to return the certificates within a specified period for a full refund. The Forms N-27E-1 and N-27F-1 notices, which are sent directly to holders of periodic payment plan certificates, serve to alert purchasers of periodic payment plans of their rights in connection with their plan certificates.

Commission staff estimates that there are fewer than five issuers of periodic payment plan certificates affected by Rules 27e-1 and 27f-1. The frequency with which each of these issuers or their representatives must file the Form N-27E-1 and Form N-27F-1 notices varies with the number of periodic payment plans sold and the number of certificate holders who miss payments. The Commission estimates, however, that approximately 5,000 Form N-27E-1 notices and 48,900 Form N-27F-1 notices are sent out annually. The Commission estimates that each Form N-27E-1 notices takes approximately 4.5 minutes (0.075 hours) to prepare. Therefore, the total annual burden of Form N-27E-1 is estimated to be approximately 375 hours. The Commission estimates that each Form N-27F-1 notice takes approximately 3.5 minutes (.05833 hours) to prepare. Therefore, the total annual burden of Form N-27F-1 is estimated to be 2,852 hours.

The estimate of average burden hours is made solely for the purposes of the Paperwork Reduction Act, and is not derived from a comprehensive or even a representative survey or study of the costs of Commission rules and forms.¹

¹ These estimates are based on informal conversations between the Commission staff and representatives of periodic payment plan issuers.

Complying with the collection of information requirements of Rule 27e-1 is mandatory for issuers of periodic payment plans or their depositors or underwriters in the event holders of plan certificates miss certain payments within eighteen months after issuance. Complying with the collection of information requirements of Rule 27f-1 is mandatory for custodian banks of periodic payment plans for which the sales load deducted from any payment exceeds 9 percent of the payment. The information provided pursuant to Rules 27e-1 and 27f-1 will be provided to third parties and, therefore, will not be kept confidential. The Commission is seeking OMB approval, because an agency may not conduct or sponsor, and a person is not required to respond to, a collection of information unless it displays a currently valid control number.

Written comments are invited on: (a) Whether the collection of information is necessary for proper performance of the functions of the Commission, including whether the information has practical utility; (b) the accuracy of the Commission's estimate of the burden of the collection of information; (c) ways to enhance the quality, utility, and clarity of the information collected: and (d) ways to minimize the burden of the collection of information on respondents, including through the use of automated collection techniques or other forms of information technology. Consideration will be given to comments and suggestions submitted in writing within 60 days of this publication.

Please direct your written comments to Michael E. Bartell, Associate Executive Director, Office of Information Technology, Securities, Securities and Exchange Commission, 450 5th Street, NW, Washington, DC 20549.

Dated: June 29, 2000.
Margaret H. McFarland,
Deputy Secretary.

[FR Doc. 00-17468 Filed 7-10-00; 8:45 am]

BILLING CODE 8010-01-M